DEPARTMENT OF COMMERCE

Foreign-Trade Zones Board

[Order No. 1148]

Grant of Authority for Subzone Status; Bahco Tools, Inc. (Hand Tools), Throop, PA

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Eastern Distribution Center, Inc., grantee of Foreign-Trade Zone 24, has made application to the Board for authority to establish a special-purpose subzone at the hand tools warehousing facilities of Bahco Tools, Inc. (formerly Sandvik Saws and Tools, Inc.), located in Throop, Pennsylvania (FTZ Docket 13-99, filed 3/26/99; amended 7/2000);

Whereas, notice inviting public comment was given in the Federal Register (64 FR 16697, 4-6-99); and,

Whereas, the Board adopts the findings and recommendations of the examiner's report, and finds that the requirements of the FTZ Act and the Board's regulations would be satisfied, and that approval of the application, as amended, would be in the public interest, if approval were subject to a time limit;

Now, Therefore, the Board hereby grants authority for subzone status at the hand tools warehousing facilities of Bahco Tools, Inc., located in Throop, Pennsylvania (Subzone 24C), at the location described in the application, and subject to the FTZ Act and the Board's regulations, including § 400.28, for a period of four years, subject to extension upon review.

Signed at Washington, DC, this 15th day of March 2001.
Timothy J. Hauser,
Acting Under Secretary for International Trade, Alternate Chairman, Foreign-Trade Zones Board.

[FR Doc. 01-7555 Filed 3-26-01; 8:45 am]

BILLING CODE 3510-DS-P